DEPARTMENT OF THE TREASURY

Community Development Financial Institutions Fund

Proposed Collection; Comment Request

ACTION: Notice and request for comments.

SUMMARY: The U.S. Department of the Treasury, as part of its continuing effort to reduce paperwork and respondent burden, invites the general public and other Federal agencies to take this opportunity to comment on proposed and/or continuing information collections, as required by the Paperwork Reduction Act of 1995, Public Law No. 104-13 (44 U.S.C. 3506(c)(2)(A)). Currently, the Community Development Financial Institutions Fund (the “Fund”), an office within the Department of the Treasury, is soliciting comments concerning the CDFI Fund's Quarterly New Markets Report (QNMR) for New Markets Tax Credit (NMTC) allocatees under the American Recovery and Reinvestment Act of 2009 (Recovery Act).

DATES: Written comments should be received on or before April 20, 2010 to be assured of consideration.

ADDRESSES: Direct all comments to Charles McGee, Program Manager, Certification, Compliance Monitoring and Evaluation at the Community Development Financial Institutions Fund, U.S. Department of the Treasury, 601 13th Street, NW., Suite 200 South, Washington, DC 20005, by e-mail to cdfihelp@cdfi.treas.gov or by facsimile to (202) 622-7754. Please note this is not a toll free number.

FOR FURTHER INFORMATION CONTACT: The CDFI Fund's QNMR may be obtained from the Recovery Act page of the CDFI Fund's Web site at http://www.cdfifund.gov. Requests for additional information should be directed to Charles McGee, Program Manager, Certification, Compliance Monitoring and Evaluation, Community Development Financial Institutions Fund, U.S. Department of the Treasury, 601 13th Street, NW., Suite 200 South, Washington, DC 20005, or call (202) 622-7373. Please note this is not a toll free number.

SUPPLEMENTARY INFORMATION:

Title: Quarterly New Markets Report.

OMB Number: 1559-0035.

Abstract: The NMTC Program was authorized under the Community Renewal Tax Relief Act of 2000 and is administered by the Department of the Treasury's Community Development Financial Institutions (CDFI) Fund. The NMTC Program facilitates investment in low-income communities by permitting taxpayers to receive a credit against Federal income taxes for making Qualified Equity Investments (QEIs) in designated Treasury-certified Community Development Entities (CDEs). The CDEs must, in turn, use substantially all of these QEI proceeds to make loans and investments in businesses and real estate developments in low-income communities.

The Recovery Act provided $3 billion of tax credit allocation authority through the NMTC Program. Of this amount, $1.5 billion was made available to thirty-two CDEs through the FY 2008 NMTC allocation round and the remaining $1.5 billion was made available to twenty-four CDEs through the FY 2009 NMTC allocation round. In order to ensure that the accountability and transparency requirements of the Recovery Act are being met, NMTC allocatees that are recipients of an allocation authority under the Recovery Act are required to report to the CDFI Fund on a quarterly basis. NMTC allocatees must complete and submit a QNMR to the CDFI Fund no later than 10 days after the end of each calendar quarter. The questions included in the QNMR allow the CDFI Fund to evaluate the effectiveness and impact of the NMTC Program. More specifically, the information reported in the QNMR will enable the CDFI Fund to identify how Recovery Act allocatees are putting their NMTC investments to use in low-income communities and will help the CDFI Fund to meet its own Recovery Act agency reporting requirements. The QNMR also provides qualitative and quantitative information on the allocatee's compliance with its performance goals as outlined in its allocation agreement with the CDFI Fund. Failure to obtain the information collected in the QNMR could result in improper monitoring of the uses of Federal funds.

Current Actions: Extension of a currently approved collection.

Type of Review: Regular Review.

Affected Public: New Markets Tax Credit allocatees that are recipients of an allocation authority under the Recovery Act.

Estimated Number of Respondents: 56.

Estimated Annual Time per Respondent: 17.14 hours.

Estimated Total Annual Burden Hours: 960 hours.

Requests for Comments: Comments submitted in response to this notice will be summarized and/or included in the request for Office of Management and Budget approval. All comments will become a matter of public record and may be published on the CDFI Fund Web site at http://www.cdfifund.gov. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology.

Authority: 12 U.S.C. 1834a, 4703, 4703 note, 4713, 4717; 31 U.S.C. 321; 12 CFR part 1806; Public Law 111-5.

Dated: February 4, 2010.
Donna J. Gambrell,
Director, Community Development Financial Institutions Fund.

[FR Doc. 2010-3165 Filed 2-18-10; 8:45 am]

BILLING CODE 4810-70-P